DEPARTMENT OF JUSTICE

Notice of Lodging Proposed Consent Decree

In accordance with Department Policy, 28 CFR 50.7, notice is hereby given that a proposed Consent Decree in United States v. Milner, No. C01-0809RBL, was lodged with the United States District Court for the Western District of Washington on October 12, 2006.

This proposed Consent Decree concerns a complaint filed by the United States against Donald C. Walker and Gloria Walker, pursuant to Sections 301(a) and 404 of Clean Water Act (CWA), 33 U.S.C. 1311(a) & 1344, and Section 10 of the Rivers & Harbors (Act) (RHA), 33 U.S.C. 403, to obtain injunctive relief from and impose civil penalties against the Defendants for violating the CWA by discharging pollutants without a permit into waters of the United States, and the RHA by constructing a structure in navigable waters. The proposed Consent decree resolved these allegations by requiring the Defendants to perform mitigation and to pay a civil penalty.

The Department of Justice will accept written comments relating to this proposed Consent Decree for thirty (30) days from the date of publication of this Notice. Please address comments to John McKay, United States Attorney, 5220 United States Courthouse, 700 Stewart Street, Seattle, WA 98101-1271, and refer to United States v. Milner, DJ #90-5-1-1-16918.

The proposed Consent Decree may be examined at the Clerk's Office, United States District Court for the Western District of Washington, 1717 Pacific Avenue, Room 3100, Tacoma, WA 98402. In addition, the proposed Consent Decree may be viewed at http://www/usdoj.gov/enrd/open.html.

Russell M. Young,
Assistant Chief, Environmental Defense Section, Environment and Natural Resources Division, Department of Justice.

[FR Doc. 06-9125 Filed 11-8-06; 8:45 am]

BILLING CODE 4410-15-M